DEPARTMENT OF TRANSPORTATION

Federal Aviation Administration

14 CFR Part 71

[Airspace Docket No. 00-AAL-19]

Revision of Class E Airspace; Ketchikan, AK

AGENCY: Federal Aviation Administration (FAA), DOT.

ACTION: Final rule.

SUMMARY: This action revises Class E (surface area) airspace at Ketchikan, AK. The need to redefine the Ward Cove surface area exclusion in the Class E (surface area) airspace at Ketchikan, AK, made this action necessary. This rule provides an accurate description of the Ward Cove exclusion in the Class E (surface area) airspace for seaplane base aircraft flying Special Visual Flight Rules (SVFR) procedures at Ketchikan Airport, Ketchikan, AK

EFFECTIVE DATE: 0901 UTC, May 17, 2001.

FOR FURTHER INFORMATION CONTACT: Bob Durand, Operations Branch, Federal Aviation Administration, 222 West 7th Avenue, Box 14, Anchorage, AK 99513-7587; telephone number (907) 271-5898; fax: (907) 271-2850; email: Bob.Durand@faa.gov. Internet address: http://www.alaska.faa.gov/at or at address http://162.58.28.41/at.

SUPPLEMENTARY INFORMATION:

History

On January 10, 2001, a proposal to amend part 71 of the Federal Aviation Regulations (14 CFR part 71) to revise the Class E (surface area) airspace at Ketchikan, AK, was published in the Federal Register (66 FR 1921). The proposal was necessary to correct the Ward Cove Class E (surface area) exclusion description at Ketchikan, AK.

Interested parties were invited to participate in this rulemaking proceeding by submitting written comments on the proposal to the FAA. No public comments to the proposal were received; however, the coordinates for Danger Island contained an error. The Danger Island coordinates have been corrected to read “lat. 55°24′ 08″ N, long. 131° 45′47″ W.” The Federal Aviation Administration has determined that this change is editorial in nature and will not increase the scope of this rule. Except for the non-substantive change just discussed, the rule is adopted as written.

The area will be depicted on aeronautical charts for pilot reference. The coordinates for this airspace docket are based on North American Datum 83. The Class E airspace areas designated as surface areas are published in paragraph 6002 of FAA Order 7400.9H, Airspace Designations and Reporting Points, dated September 1, 2000, and effective September 16, 2000, which is incorporated by reference in 14 CFR 71.1. The Class E airspace designations listed in this document will be revised and published subsequently in the Order.

The Rule

This amendment to 14 CFR part 71 revises the Class E (surface area) airspace at Ketchikan, AK, by correcting the description of the Ward Cove exclusion area at Ketchikan, AK. The area will be depicted on aeronautical charts for pilot reference. The intended effect of this proposal is to provide an accurate Class E (surface area) airspace exclusion for Ward Cove Seaplane Base operations during SVFR operations at Ketchikan Airport, Ketchikan, AK.

The FAA has determined that these regulations only involve an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9H, Airspace Designations and Reporting Points, dated September 1, 2000, and effective September 16, 2000, is amended as follows:

* * * * *

Paragraph 6002 Class E airspace designated as surface areas.

* * * * *

AAL AK E2 Ketchikan, AK [Revised]

Ketchikan International Airport, AK

(Lat. 55°21′20″ N., long. 131°42′49″ W.)

Ketchikan Localizer

(Lat. 55°20′51″N., long. 131°42′00″ W.)

Danger Island

(Lat. 55°24′08″ N., long. 131°45′47″ W.)

East Island

(Lat. 55°23′46″ N., long. 131°44′46″ W.)

Wrong Benchmark

(Lat. 55°23′35″ N., long. 131°44′10″ W.)

Decoy Benchmark

(Lat. 55°23′55″ N., long. 131°44′33″ W.)

Within a 3-mile radius of the Ketchikan International Airport and within 1 mile each side of the Ketchikan localizer northwest/southeast courses extending from the 3-mile radius to 4.6 miles northwest and 4.1 miles southeast of the airport excluding that airspace from Danger Island to East Island to the Wrong Benchmark thence along the Ward Cove shore line to the Decoy Benchmark thence north along the Refuge Cove shore line to a point abeam Refuge Cove State Recreation Site picnic area (lat. 55°24′31″ N., long. 131° 45′ 36″ W.) thence to the point of beginning.

* * * * *

Issued in Anchorage, AK, on March 6, 2001.
Stephen P. Creamer,
Assistant Manager, Air Traffic Division, Alaskan Region.

[FR Doc. 01-6374 Filed 3-14-01; 8:45 am]

BILLING CODE 4910-13-U